DEPARTMENT OF ENERGY

Federal Energy Regulatory Commission

[Docket No. IC09-716-000, FERC-716]

Commission Information Collection Activities, Proposed Collection; Comment Request; Extension

November 18, 2008.

AGENCY: Federal Energy Regulatory Commission, DOE.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Comments in consideration of the collection of information are due January 23, 2009.

ADDRESSES: An example of this collection of information may be obtained from the Commission's Web site at (http://www.ferc.gov/docs-filing/elibrary.asp). Comments may be filed either electronically or in paper format, and should refer to Docket No. IC09-716-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-716. For user assistance, contact FERC Online Support (e-mail at ferconlinesupport@ferc.gov, or call toll-free at (866) 208-3676, or for TTY, contact (202) 502-8659).

FOR FURTHER INFORMATION CONTACT: Michael Miller may be reached by telephone at (202) 502-8415, by fax at (202) 273-0873, and by e-mail at michael.miller@ferc.gov.

SUPPLEMENTARY INFORMATION: The FERC is now combining the requirements from both FERC-716 (“Good Faith Request for Transmission Service and Response by Transmitting Utility Under sections 211(a) and 213(a) of the Federal Power Act” (OMB No. 1902-0170)) and FERC-716A (“Application for Transmission Services Under section 211 of the Federal Power Act” (OMB No. 1902-0168)) into a single notice. In addition, the requirements will be labeled FERC-716 and consolidated into a single OMB control no. (OMB No. 1902-0170).

The information collected under the requirements of FERC-716 “Good Faith Request for Transmission Service and Response by Transmitting Utility Under sections 211(a) and 213(a) of the Federal Power Act” (existing/current OMB No. 1902-0170) is used by the Commission to implement the statutory provisions of sections 211 and 213 of the Federal Power Act (FPA) as amended and added by the Energy Policy Act 1992. For the initial process, the information is not filed with the Commission, however, the request and response may be analyzed as a part of a section 211 proceeding. This collection of information covers the information that must be contained in the request and in the response. Should the parties be unable to resolve outstanding issues, an application may be submitted to the FERC. The Commission may order transmission services under the authority of FPA 211.

The Energy Policy Act of 1992 amended section 211 of the FPA and expanded the Commission's authority to order transmission service. Under the revised section 211, the Commission may order transmission services if it finds that such action would be in the public interest, would not unreasonably impair the continued reliability of electric systems affected by the order, and would meet the requirements of amended section 211 of the FPA.

The Commission's policy statement under Public Law 93-3, Policy Statement Regarding Good Faith Requests for Transmission Services and Responses by Transmitting Utilities Under section 211(a) and 213(a) of the Federal Power Act, as Amended, implemented a data exchange between a transmission requester and a transmitting utility prior to the submission of a section 211 request with the Commission. Components of the data exchange are identified in the Code of Federal Regulations (CFR), 18 CFR 2.20. The general policy sets forth standards by which the Commission determines whether and when a valid good faith request for transmission has been made under section 211 of the FPA. In developing the standards, the Commission sought to encourage an open exchange of information with a reasonable degree of specificity and completeness between the party requesting transmission services and the transmitting utility. As a result, 18 CFR 2.20 identifies twelve components of a good faith estimate and five components of a reply to a good faith request.

Information in the data exchange is not filed as noted above with the Commission, unless negotiations between the transmission requestor and the transmitting utility have not been successful and the transmission requestor files a section 211 request (formerly FERC-716A, 1902-0168, and incorporated herein) with the Commission.

When negotiations are unsuccessful, the information collected for the “Application for Transmission Services Under section 211 of the Federal Power Act” is used by the Commission to implement the statutory provisions of section 211 of the Federal Power Act (FPA) 16 U.S.C. (824) as amended by the Energy Policy Act 1992 (Pub. L. 102-486) 106 Stat. 2776. Under section 211, the Commission may order transmission services if it finds that such action would be in the public interest and would not unreasonably impair the continued reliability of systems affected by the order. The requirements are detailed in the Code of Federal Regulations (CFR) under 18 CFR part 36.

Action: The Commission is requesting a three-year extension of the current expiration date, with no changes to the existing collection of data. The existing requirements for the collections formerly known as FERC-716 and FERC-716A are being combined here under FERC-716.

Burden Statement: Public reporting burden for this collection is estimated as:

FERC data collection FERC-716 | Number of respondents annually | Number of responses per respondent | Average burden hours per response | Total annual burden hours
| (1) | (2) | (3) | (1)×(2)×(3)
Information exchange between parties | 3 | 1 | 100 | 300
Application submitted to FERC if parties' negotiations are unsuccessful | 3 | 1 | 2.5 | 8
Total | 3 | 2 |  | 308

For the information exchange, the estimated cost burden to respondents is $18,228.00 (300 hours ÷ 2080 hours per year × $126,384 per year average per employee = $18,228.00). The cost per respondent is $6,076.00. For the application to FERC, the estimated cost burden to respondents is $486.00 (8 hours ÷ 2080 hours per year × $126,384 per year average per employee = $486.00). The cost per respondent is $162.00. The total burden hours per year for the information exchange and the application would be 308.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g., permitting electronic submission of responses.

Kimberly D. Bose,
Secretary.

[FR Doc. E8-27813 Filed 11-21-08; 8:45 am]

BILLING CODE 6717-01-P